DEPARTMENT OF THE INTERIOR

Fish and Wildlife Service

[FWS-R9-IA-2012-N140; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before July 9, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Naples Zoo, Inc., Naples, FL; PRT-701225

The applicant requests renewal and amendment of their captive-bred wildlife registration under 50 CFR 17.21(g) for the following families, genus, and species, to enhance their propagation or survival. This notification covers activities to be conducted by the applicant over a 5-year period.

Families

Hylobatidae

Lemuridae

Macropodidae

Genus

Ateles

Species

Komodo monitor (Varanus komodoensis)

Clouded leopard (Neofelis nebulosa)

Malayan tiger (Panthera tigris corbetti includes P.t. jacksoni)

Leopard (Panthera pardus)

Snow leopard (Uncia uncia)

African wild dog (Lycaon pictus)

Cheetah (Acinonyx jubatus)

Applicant: M. Knudsen, Liberal, KS; PRT-841281

The applicant requests renewal and amendment of their captive-bred wildlife registration under 50 CFR 17.21(g) for the following families, genus, and species, to enhance their propagation or survival. This notification covers activities to be conducted by the applicant over a 5-year period.

Families

Bovidae

Cebidae

Cercopithecidae

Cervidae

Equidae

Hominidae

Hylobatidae

Lemuridae

Tapiridae

Psittacidae (does not include thick-billed parrot)

Sturnidae (does not include Aplonis pelzelni).

Applicant: Desert Horn Safaris, El Paso, TX; PRT-73016A

The applicant requests a captive-bred wildlife registration under 50 CFR 17.21(g) for the scimitar-horned oryx (Oryx dammah) to enhance their propagation or survival. This notification covers activities to be conducted by the applicant over a 5-year period.

Applicant: Desert Horn Safaris, El Paso, TX; PRT-73017A

The applicant requests a permit authorizing interstate and foreign commerce, export, and cull of excess scimitar-horned oryx (Oryx dammah) from the captive herd maintained at their facility, for the purpose of enhancement of the survival of the species. This notification covers activities to be conducted by the applicant over a 5-year period.

Applicant: Texas Parks and Wildlife Department, Mason, TX; PRT-75408A

The applicant requests a captive-bred wildlife registration under 50 CFR 17.21(g) for the scimitar-horned oryx (Oryx dammah) to enhance their propagation or survival. This notification covers activities to be conducted by the applicant over a 5-year period.

Applicant: Texas Parks and Wildlife Department, Mason, TX; PRT-75407A

The applicant requests a permit authorizing interstate and foreign commerce, export, and cull of excess scimitar-horned oryx (Oryx dammah) from the captive herd maintained at their facility, for the purpose of enhancement of the survival of the species. This notification covers activities to be conducted by the applicant over a 5-year period.

Applicant: Dos Hijos Ranch-Operations, Inc., Benavides, TX; PRT-75297A

The applicant requests a captive-bred wildlife registration under 50 CFR 17.21(g) for the barasingha (Rucervus duvaucelii) and scimitar-horned oryx (Oryx dammah) to enhance their propagation or survival. This notification covers activities to be conducted by the applicant over a 5-year period.

Applicant: Andrew Barton, Shingle Springs, CA; PRT-75409A

The applicant requests a captive-bred wildlife registration under 50 CFR 17.21(g) for the radiated tortoise (Astrochelys radiata) to enhance their propagation or survival. This notification covers activities to be conducted by the applicant over a 5-year period.

Applicant: Michael Ryckman, Painted Post, NY; PRT-75285A

The applicant requests a captive-bred wildlife registration under 50 CFR 17.21(g) for the radiated tortoise (Astrochelys radiata) to enhance their propagation or survival. This notification covers activities to be conducted by the applicant over a 5-year period.

Applicant: Reigleman Enterprises, dba Pymatuning Deer Park, Jamestown, PA; PRT-75109A

The applicant requests a captive-bred wildlife registration under 50 CFR 17.21(g) for the following species, to enhance their propagation or survival. This notification covers activities to be conducted by the applicant over a 5-year period.

Species

Galapagos tortoise (Chelonoidis nigra)

radiated tortoise (Astrochelys radiata)

salmon-crested cockatoo (Cacatua moluccensis)

ring-tailed lemur (Lemur catta)

black-and-white ruffed lemur (Varecia variegata)

cottontop tamarin (Saguinus oedipus)

Japanese macaque (Macaca fuscata)

lar gibbon (Hylobates lar)

snow leopard (Uncia uncia)

leopard (Panthera pardus)

barasingha (Rucervus duvaucelii)

scimitar-horned oryx (Oryx dammah)

addax (Addax nasomaculatus)

dama gazelle (Nanger dama)

red lechwe (Kobus leche)

Applicant: Wildlife Conservation Society, Bronx, NY; PRT-75496A

The applicant requests a permit to import biological samples from American crocodiles (Crocodylus acutus) from the University of Havana, Cuba, for the purpose of enhancement of the species through scientific research. This notification covers activities conducted by the applicant for a 5-year period.

Applicant: Turtle Back Zoo, West Orange, NJ; PRT-75693A

The applicant requests a captive-bred wildlife registration under 50 CFR 17.21(g) for the following species, to enhance their propagation or survival. This notification covers activities to be conducted by the applicant over a 5-year period.

Species

Galapagos tortoise (Chelonoidis nigra)

Radiated tortoise (Astrochelys radiata)

Komodo monitor (Varanus komodoensis)

Jackass penguin (Spheniscus demersus)

Andean condor (Vultur gryphus)

White-naped crane (Grus vipio)

Salmon-crested cockatoo (Cacatua moluccensis)

Snow leopard (Uncia uncia)

Leopard (Panthera pardus)

Applicant: University of Cincinnati, Cincinnati, OH; PRT-66809A

The applicant requests a permit to import biologically samples from wild-caught diademed sifaka (Propithecus diadema) and gray bamboo lemur (Hapalemur griseus) for the purpose of enhancement of the survival of the species.

Multiple Applicants

The following applicants each request a permit to import the sport-hunted trophy of one male bontebok (Damaliscus pygargus pygargus) culled from a captive herd maintained under the management program of the Republic of South Africa, for the purpose of enhancement of the survival of the species.

Applicant: Cecil Baldwin, Tucson, AZ; PRT-73853A

Applicant: Aaron Rees, Kirkland, WA; PRT-67592A

Applicant: Eric Moore, Yankton, SD; PRT-75399A

Applicant: John Farham, Ft. Collins, CO; PRT-75492A

Brenda Tapia,
Program Analyst/Data Administrator, Branch of Permits, Division of Management Authority.

[FR Doc. 2012-13915 Filed 6-7-12; 8:45 am]

BILLING CODE 4310-55-P